DEPARTMENT OF COMMERCE

International Trade Administration

[Application No. 97-10A03]

Export Trade Certificate of Review

ACTION: Notice of Application (#97-10A03) to amend an Export Trade Certificate of Review issued to the Association for the Administration of Rice Quotas, Inc.

SUMMARY: Export Trading Company Affairs, International Trade Administration, U.S. Department of Commerce, has received an application to amend an Export Trade Certificate of Review (“Certificate”). This notice summarizes the proposed amendment and requests comments relevant to whether the Certificate should be issued.

FOR FURTHER INFORMATION CONTACT: Joseph E. Flynn, Director, Office of Competition and Economic Analysis, International Trade Administration, (202) 482-5l3l (this is not a toll-free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private, treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021X, Washington, DC 20230, or transmit by E-mail at oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 97-10A03.”

The original Certificate for the Association for the Administration of Rice Quotas, Inc. was issued on January 21, 1998 (63 FR 4220, January 28, 1998). The Certificate has been previously amended nine times. The last amendment was issued on March 31, 2009 (74 FR 16363, April 10, 2009). A summary of the current application for an amendment follows.

Summary of the Application

Applicant: Association for the Administration of Rice Quotas, Inc. (AARQ), c/o AARQ Chairman, Christian Bonnesen of ADM Rice, Inc., 660 White Plains Road, Tarrytown, New York 10591.

Contact: M. Jean Anderson, Esq., Counsel to Applicant, Telephone: (202) 682-7217.

Application No.: 97-10A03.

Date Deemed Submitted: December 11, 2009.

Proposed Amendment: AARQ seeks to amend its Certificate to reflect the following changes:

1. Add the following companies as new Members of the Certificate within the meaning of section 325.2(1) of the Regulations (15 C.F.R. 325.(1)): ADM Grain Company, Decatur, Illinois (a subsidiary of Archer Daniels Midland Company) and TRC Trading Corporation, Roseville, California (a subsidiary of The Rice Company).

2. Amend the listing of the following Members: “American Commodity Company, LLC Robbins, California” should be amended to read “American Commodity Company, LLC, Williams, California”; “American Rice, Inc., Houston, Texas (a subsidiary of SOS Cuetara USA, Inc.)” should be amended to read “American Rice, Inc., Houston, Texas (a subsidiary of SOS Corporation Alimentaria, SA)”; “Cargill Americas, Inc., and its subsidiary CAI Trading Company LLC, Coral Gables, Florida” should be amended to read “Cargill Americas, Inc. and its subsidiary CAI Trading, LLC, Coral Gables, Florida; “JFC International Inc., San Francisco, California (a subsidiary of Kikkoman Corp.)” should be amended to read “JFC International Inc., Los Angeles, California (a subsidiary of Kikkoman Corp.)”; and “Nidera, Inc., Stamford, Connecticut (a subsidiary of Nidera Handelscompagnie BV (Netherlands))” should be amended to read “Nidera, Inc., Wilton, Connecticut (a subsidiary of Nidera Handelscompagnie BV (Netherlands)).”

Dated: December 16, 2009.
Joseph E. Flynn,
Director, Office of Competition and Economic Analysis.

[FR Doc. E9-30346 Filed 12-21-09; 8:45 am]

BILLING CODE 3510-DR-P